FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 8, 2019.

A. Federal Reserve Bank of Minneapolis (Mark A. Rauzi, Vice President), 90 Hennepin Avenue, Minneapolis, Minnesota 55480-0291:

1. Taylor A. Wortman, Bozeman, Montana; to acquire voting shares of Guaranty Development Company, Livingston, Montana, and thereby indirectly acquire American Bank, Bozeman, Montana.

B. Federal Reserve Bank of New York (Ivan Hurwitz, Senior Vice President) 33 Liberty Street, New York, New York 10045-0001. Comments can also be sent electronically to Comments.applications@ny.frb.org:

1. Frank Gumina III, Monroe, New Jersey; to retain voting shares of Brunswick Bancorp, New Brunswick, New Jersey, and thereby indirectly retain shares of Brunswick Bank and Trust Company, also of New Brunswick, New Jersey.

Board of Governors of the Federal Reserve System, June 21, 2019.
Yao-Chin Chao,
Assistant Secretary of the Board.

[FR Doc. 2019-13591 Filed 6-25-19; 8:45 am]

BILLING CODE 6210-01-P